DEPARTMENT OF COMMERCE

National Oceanic and Atmospheric Administration

50 CFR Part 648

[Docket No. 0808041037-1649-02]

RIN 0648-AX05

Fisheries of the Northeastern United States; Atlantic Mackerel, Squid, and Butterfish Fisheries; Amendment 11; Correction

AGENCY: National Marine Fisheries Service (NMFS), National Oceanic and Atmospheric Administration (NOAA), Commerce.

ACTION: Final rule; correction.

SUMMARY: This action corrects a mistake in the amendatory language in the final rule for Amendment 11 to the Atlantic Mackerel, Squid, and Butterfish Fishery Management Plan.

DATES: Effective March 1, 2012.

FOR FURTHER INFORMATION CONTACT: Aja Szumylo, Fishery Policy Analyst, 978-281-9195.

SUPPLEMENTARY INFORMATION:

Background

The final rule for Amendment 11 to the Atlantic Mackerel, Squid, and Butterfish (MSB) Fishery Management Plan was published in the Federal Register on November 7, 2011 (76 FR 68642). The final measures in that action included: A tiered limited access program for the Atlantic mackerel fishery; an open access incidental catch permit for mackerel; an update to essential fish habitat designations for all life stages of mackerel, longfin squid, Illex squid, and butterfish; and the establishment of a recreational allocation for mackerel. Details regarding the measures in Amendment 11 are in the final rule and are not repeated here.

The final regulations in Amendment 11 revised portions of 50 CFR 648.4; the new regulatory text will be effective on March 1, 2012. The amendatory language for § 648.4 on page 68653 of the final rule has instructions for a revision of paragraph § 648.4 (a)(5)(iii). However, the amendatory language should have also included instructions for a revision of § 648.4 (a)(5)(iv) and the addition of § 648.4 (a)(5)(v). The text for these paragraphs is listed on page 68655 of the final rule. As published, the error in the amendatory language would result in the removal of § 648.4 (a)(5)(iv) and § 648.4 (a)(5)(v) on March 1, 2012. These paragraphs describe the Atlantic mackerel incidental catch permit and the MSB party and charter boat permit. This correction adjusts the amendatory instruction 2 for § 648.4 to allow for the designation of paragraphs (a)(5)(iv) and (v) in time for the March 1, 2012, effective date. This correction does not change the intent or application of the measures described in the proposed and final rule.

Classification

The Assistant Administrator for Fisheries, NOAA (AA) finds good cause under 5 U.S.C. 553(b)(B), to waive the requirement for prior notice and opportunity for public comment for this action because notice and comment would be unnecessary, impracticable, and contrary to the public interest. Notice and comment are unnecessary, impracticable, and contrary to the public interest because this action simply makes the text of the codified regulations consistent with the text in the final rule, and makes corrections to accurately reflect the intent of the final rule. This correction eliminates inconsistencies between the regulatory text contained in the final rule and the codified regulations, and therefore eliminates any confusion that the inconsistency might create for the public. No aspect of this action is controversial and no change in operating practices in the fishery is required from those intended in the final rule.

For the same reasons, pursuant to 5 U.S.C. 553(d), the AA finds good cause to waive the 30-day delay in effective date. If this rule is not implemented by March 1, 2012, two paragraphs of regulations regarding permit requirements would be removed, which could cause confusion and would be inconsistent with the final rule.

Because prior notice and opportunity for public comment are not required for this rule by 5 U.S.C. 553, or any other law, the analytical requirements of the Regulatory Flexibility Act, 5 U.S.C. 601 et seq. are inapplicable.

This final rule has been determined to be not significant for purposes of Executive Order 12866.

Correction

In the Federal Register of November 7, 2011, in FR Doc. 2011-28772, on page 68653, in the second column, amendatory instruction 2 is corrected to read as follows:

§ 648.4 [Corrected]

“2. In § 648.4, paragraphs (a)(5)(iii) and (a)(5)(iv) are revised, and paragraphs (a)(5)(v), and (c)(2)(vii) are added to read as follows:”

Dated: February 8, 2012.
Alan D. Risenhoover,
Acting Deputy Assistant Administrator for Regulatory Programs, National Marine Fisheries Service.

[FR Doc. 2012-3304 Filed 2-10-12; 8:45 am]

BILLING CODE 3510-22-P